DEPARTMENT OF COMMERCE

National Oceanic and Atmospheric Administration

Proposed Information Collection; Comment Request; Northwest Region Federal Fisheries Permits

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 10, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Kevin A. Ford, (206) 526-6115 or e-mail at kevin.ford@noaa.gov.

SUPPLEMENTARY INFORMATION:

I. Abstract

NOAA Fisheries seeks comment on the renewal of permit information collections required to: (1) Renew and transfer of Pacific Coast Groundfish limited entry permits; (2) implement certain provisions of the sablefish permit stacking program as provided for by Amendment 14 of the Pacific Coast Groundfish Fishery Management Plan; and (3) issue and fulfill the terms and conditions of exempted fishing permits (EFPs).

NOAA Fisheries, Northwest Region manages the Pacific Coast Groundfish Fishery in the Exclusive Economic Zone (EEZ) off Washington, Oregon, and California under the Pacific Coast Groundfish Fishery Management Plan. The regulations implementing the Pacific Groundfish Fishery require that those individuals participating in the limited entry fishery have a valid limited entry permit. The participation in the fishery and access to a limited entry permit has been restricted to control the overall harvest capacity.

Each year, permit owners are required to renew their permit by reviewing their current permit information, providing any updated information and certifying that the permit information is correct. Similarly, a permit owner is required to request a permit transfer in writing. Additional information may be requested from the permit owner to determine compliance with groundfish regulations. The regulations implementing the limited entry program are found at 50 CFR part 660, Subpart G.

Also, NOAA Fisheries will require information collections to implement sablefish permit stacking program which will allow NOAA Fisheries to prevent excessive fleet consolidation, ensure processor access to sablefish, and maintain the character of the fleet through an owner on board provision. These information collections will include both one time collections and annual information collections. Specifically, the annual information collections will require a corporation or partnership that owns a sablefish endorsed permit to list all individuals with ownership interests in the entity; and as part of a permit transfer, a certification by the permit owner to report the remaining pounds (not yet harvested) on a sablefish permit at the time of transfer.

Applicants for exempted fishing permit must submit written information that allows NOAA Fisheries to evaluate the exempted fishing activity and weigh the benefits and costs of the proposed activities. The information included in an application is specified at 50 CFR 600.745(b)(2). Permit holders are required to file reports on the results of the experiments and in some cases individual vessels are required to provide minimal data reports. There is also a requirement of a call-in notification prior to the fishing trip. This information allows NOAA fisheries to evaluate the techniques used and decide if management regulations should be approved as is, modified, or disapproved.

II. Method of Collection

The information collections for permit renewals and transfers and to implement sablefish permit stacking program are made on NOAA Fisheries forms. Also, the renewal of limited entry permits may be completed and submitted using online renewal form on the NOAA Fisheries, Northwest Region web site. Transfer forms and forms for the permit stacking program are available from the region's web site but must be submitted by mail or in person. Applications for an exempted fishing permit must be submitted in a written format. The exempted fishing permit data reports from individual vessels may be submitted in person, faxed, or submitted by telephone by the vessel owner or operator to NOAA Fisheries or the states of Washington, Oregon, or California.

III. Data

OMB Number: 0648-0203.

Form Number: None.

Type of Review: Regular submission.

Affected Public: Not-for-profit institutions, states, individuals or households, and business or other for-profits organizations.

Estimated Number of Respondents: 755.

Estimated Time Per Response: 10 hours for an exempted fishing permit (EFP) application; 1 hour for an EFP summary report; 10 minutes for an EFP data report; 2 minutes for EFP trip notification; 20 minutes for a limited entry permit transfer form; 20 minutes for a renewal form; 30 minutes for mid-season transfer of sablefish permit; 30 minutes for at sea processing vessel exemption application; 20 minutes for addition of spouse as co-owner of a sablefish permit application; and 30 minutes for an sablefish permit ownership interest form.

Estimated Total Annual Burden Hours: 723.

Estimated Total Annual Cost to Public: $51,904.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 2, 2006.
Gwellnar Banks,
Management Analyst, Office of the Chief Information Officer.

[FR Doc. E6-1649 Filed 2-7-06; 8:45 am]

BILLING CODE 3510-22-P